DEPARTMENT OF COMMERCE

National Oceanic and Atmospheric Administration

50 CFR Part 660

[Docket No. 040830250-5109-04; I.D. 101805C]

Fisheries off West Coast States and in the Western Pacific;Pacific Coast Groundfish Fishery; End of the Pacific Whiting Primary Season for the Catcher/processor Sector

AGENCY: National Marine Fisheries Service (NMFS), National Oceanic and Atmospheric Administration (NOAA), Commerce.

ACTION: Temporary rule; fishing restrictions; request for comments.

SUMMARY: NMFS announces the end of the 2005 Pacific whiting (whiting) primary season for the catcher/processor sector at 1800 local time (l.t.) October 18, 2005, because the allocation for the catcher/processor will be reached by that time. This action is intended to keep the harvest of whiting within the 2005 allocation levels.

DATES: Effective from October 18, 2005, until the start of the 2006 primary season for the catcher-processor sector, unless modified, superseded or rescinded. Comments will be accepted through November 8, 2005.

ADDRESSES: You may submit comments, identified by I.D. 101805C, by any of the following methods:

• E-mail: WhitingCPclosure05.nwr@noaa.gov Include I.D. 101805C in the subject line of the message.

• Federal eRulemaking Portal: http://www.regulations.gov.

Follow the instructions for submitting comments.

• Fax: 206-526-6736, Attn: Becky Renko.

• Mail: D. Robert Lohn, Administrator, Northwest Region,NMFS, 7600 Sand Point Way NE, Seattle, WA 98115-0070, Attn: Becky Renko.

FOR FURTHER INFORMATION CONTACT: Becky Renko at 206-526-6110.

SUPPLEMENTARY INFORMATION: This action is authorized by regulations implementing the Pacific Coast Groundfish Fishery Management Plan (FMP), which governs the groundfish fishery off Washington, Oregon, and California.

The 2005 non-tribal commercial OY for whiting is 232,069 mt (this is calculated by deducting the 35,000-mt tribal allocation and 2,000 mt for research catch and bycatch in non-groundfish fisheries from the 269,069 mt total catch OY). Regulations at 50 CFR 660.323(a) divide the commercial whiting OY into separate allocations for the catcher/processor, mothership, and shore-based sectors. The catcher/processor sector is composed of vessels that harvest and process whiting. The mothership sector is composed of motherships and catcher vessels that harvest whiting for delivery to motherships. Motherships are vessels that process, but do not harvest, whiting. The shore-based sector is composed of vessels that harvest whiting for delivery to land-based processors. Each commercial sector receives a portion of the commercial OY. For 2005, the catcher/processors received 34 percent (78,903 mt), the mothership sector received 24 percent (55,696 mt), and the shore-based sector received 42 percent (97,469 mt).

Regulations at 50 CFR 660.373(b) describe the primary season for mothership processors as the period(s) when at-sea processing is allowed and the fishery is open for the catcher-processor sector. When each sector's allocation is reached, the primary season for that sector is ended.

NMFS Action

This action announces achievement of the allocation for the catcher/processor sector only. The best available information on October 17, 2005, indicated that the catcher/processor allocation would be reached by October 18, 2005, at which time the primary season for the catcher/processor sector ends.

For the reasons stated here and in accordance with the regulations at 50 CFR 660.373(b), NMFS herein announces that effective October 18, 2005, further taking and retaining, receiving or at-sea processing of whiting by a catcher/processor is prohibited. No additional unprocessed whiting may be brought on board after at-sea processing is prohibited, but a catcher/processor may continue to process whiting that was on board before at-sea processing was prohibited.

Classification

This action is authorized by the regulations implementing the FMP. The determination to take this action is based on the most recent data available. The Assistant Administrator for Fisheries, NMFS, finds good cause to waive the requirement to provide prior notice and opportunity for comment on this action pursuant to 5 U.S.C. 553 (3)(b)(B), because providing prior notice and opportunity would be impracticable. It would be impracticable because if this closure were delayed in order to provide notice and comment, the fishery would be expected to greatly exceed the mothership sector allocation. A delay to provide a cooling off period also would be expected to cause the fishery to exceed its allocation. Therefore, good cause also exists to waive the 30-day delay in effectiveness requirement of 5 U.S.C. 553 (d)(3). The aggregate data upon which the determination is based are available for public inspection at the Office of the Regional Administrator (see ADDRESSES) during business hours. This action is taken under the authority of 50 CFR 660.373 (b) and is exempt from review under Executive Order 12866.

Authority: 16 U.S.C. 1801 et seq.

Dated: October 18, 2005.
Alan D. Risenhoover,
Acting Director, Office of Sustainable Fisheries,National Marine Fisheries Service.

[FR Doc. 05-21182 Filed 10-19-05; 11:35 am]

BILLING CODE 3510-22-S